DEPARTMENT OF AGRICULTURE

Federal Crop Insurance Corporation

7 CFR Part 457

[Docket No. FCIC-12-0006]

RIN 0563-AC39

Common Crop Insurance Regulations; Florida Citrus Fruit Crop Insurance Provisions; Correction

AGENCY: Federal Crop Insurance Corporation, USDA.

ACTION: Final rule; correcting amendment.

SUMMARY: This document contains corrections to the final regulation that was published Friday, December 21, 2012. The regulation pertains to the insurance of Florida Citrus Fruit.

DATES: Effective April 16, 2013.

FOR FURTHER INFORMATION CONTACT: Tim Hoffmann, Director, Product Administration and Standards Division, Risk Management Agency, United States Department of Agriculture, Beacon Facility, Stop 0812, Room 421, PO Box 419205, Kansas City, MO 64141-6205, telephone (816) 926-7730.

SUPPLEMENTARY INFORMATION:

Background

The final regulation that is the subject of these corrections revised the Florida Citrus Fruit Crop Insurance Provisions that published on Friday, December 21, 2012, (74 FR 75509-75521), effective January 22, 2013.

Need For Correction

As published, the final regulation contained errors that may prove to be misleading and need to be clarified. In section 7(a) the word “a” was not removed with the other deleted text in this section. Additionally, several references in section 10(d) were incorrect in the final rule and must be corrected for the calculation to work as intended.

List of Subjects in 7 CFR Part 457

Crop insurance, Florida citrus fruit, Reporting and recordkeeping requirements. Correction of Publication.

Accordingly, 7 CFR part 457 is amended by making the following correcting amendments:

PART 457—COMMON CROP INSURANCE REGULATIONS

1. The authority citation for 7 CFR part 457 continues to read as follows:

Authority: 7 U.S.C. 1506(l), 1506(o).

§ 457.107 [Amended]

2. Amend § 457.107 as follows:

a. In section 7(a) by removing the word “a” following the phrase “that prohibit insurance attaching to”;

b. In section 10(d)(3) by removing the term “10(b)(2)” and adding the term “10(d)(2)” in its place; and

c. In section 10(d)(5) by removing the term “10(b)(3)” and adding the term “10(d)(3) in its place and by removing the term “10(b)(4)” and adding the term “10(d)(4)” in its place.

Signed in Washington, DC, on April 5, 2013.
Barbara Leach,
Acting Manager, Federal Crop Insurance Corporation.

[FR Doc. 2013-08846 Filed 4-15-13; 8:45 am]

BILLING CODE 3410-08-P